DEPARTMENT OF THE TREASURY

Submission for OMB Review; Comment Request

December 15, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before Februay 2, 2004 to be assured of consideration.

Bureau of the Public Debt (PD)

OMB Number: New.

Form Number: None.

Type of Review: New collection.

Title: Electronic Savings Bonds Customer Awareness Survey.

Description: Survey to measure savings bond purchasers' awareness of electronic savings bond accounts (TreasuryDirect) and help plan investor education efforts for electronic securities in support of eventual elimination of paper savings bonds.

Respondents: Individuals or households.

Estimated Number of Respondents: 2,500.

Estimated Burden Hours per Respondent: 6 minutes.

Frequency of Response: On occasion.

Estimated Total Reporting Burden Hours: 500 hours.

Clearance Officer: Vicki S. Thorpe, (304) 480-6553, Bureau of the Public Debt, 200 Third Street, Parkersburg, WV 26106-1328.

OMB Reviewer: Joseph F. Lackey, Jr., (202) 395-7316, Office of Management and Budget, Room 10235, New Executive Office Building, Washington, DC 20503.

Lois K. Holland,
Treasury PRA Clearance Officer.

[FR Doc. 03-32261 Filed 12-31-03; 8:45 am]

BILLING CODE 4810-39-P